NUCLEAR REGULATORY COMMISSION

Southern Nuclear Operating Company, Inc.; Georgia Power Company; Oglethorpe Power Corporation; Municipal Electric Authority of Georgia; City of Dalton, Georgia; Vogtle Electric Generating Plant, Units 1 and 2; Notice of Withdrawal of Application for Amendment to Facility Operating License

The U.S. Nuclear Regulatory Commission (the Commission) has granted the request of Southern Nuclear Operating Corporation (the licensee) to withdraw its application dated November 30, 2007, with supplemental letters dated February 13, 2008, for proposed amendment to Facility Operating Licenses No. NPF-68 and No. NPF-81 for the Vogtle Electric Generating Plant, Units No. 1 and 2, located in Burke County, Georgia.

The proposed amendment would have changed TS 5.5.9 to modify the inspection and plugging requirements for portions of Steam Generator (SG) tubes within the hot leg side of the tubesheet region of the SGs. The proposed changes to TS 5.6.10 would have added requirements to report specific data related to indications, leakage detected, and calculated accident leakage.

The Commission had previously issued a Notice of Consideration of Issuance of Amendment, on the above proposed amendment application, that was published in the Federal Register on December 18, 2007 (72 FR 71715). However, by letter dated April 18, 2008, the licensee withdrew the proposed amendment.

For further details with respect to this action, see the application for amendment dated November 30, 2007 (Agencywide Documents Access Management System (ADAMS) Accession No. ML073380099), with additional information provided by letter dated February 13, 2008, and the licensee's letter dated April 18, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 12th day of August, 2008.
For the Nuclear Regulatory Commission.
Robert E. Martin,
Senior Project Manager, Plant Licensing Branch II-1, Division of Operating Reactor Licensing, Office of Nuclear Reactor Regulation.

[FR Doc. E8-19042 Filed 8-15-08; 8:45 am]

BILLING CODE 7590-01-P